FEDERAL MARITIME COMMISSION

Notice of Agreements Filed

The Commission hereby gives notice of the filing of the following agreements under the Shipping Act of 1984. Interested parties may submit comments on the agreements to the Secretary by email at Secretary@fmc.gov, or by mail, Federal Maritime Commission, Washington, DC 20573, within twelve days of the date this notice appears in the Federal Register. Copies of the agreements are available through the Commission's website (www.fmc.gov) or by contacting the Office of Agreements at (202) 523-5793 or tradeanalysis@fmc.gov.

Agreement No.: 010979-064.

Agreement Name: Caribbean Shipowners Association.

Parties: Crowley Caribbean Services LLC; Hybur Ltd.; King Ocean Services Limited, Inc.; Seaboard Marine Ltd.; Tropical Shipping & Construction Co., Ltd.; and Zim Integrated Shipping Services Ltd.

Filing Parties: Wayne Rohde, Cozen O'Connor.

Synopsis: The amendment deletes CMA CGM SA as a party to the Agreement.

Proposed Effective Date: 7/12/2018.

Location: https://www2.fmc.gov/FMC.Agreements.Web/Public/AgreementHistory/1194.

Agreement No.: 011426-065.

Agreement Name: West Coast of South America Discussion Agreement.

Parties: King Ocean Services Limited, Inc. and Seaboard Marine Ltd.

Filing Parties: Wayne Rohde, Cozen O'Connor.

Synopsis: The amendment deletes CMA CGM SA as a party to the Agreement.

Proposed Effective Date: 7/12/2018.

Location: https://www2.fmc.gov/FMC.Agreements.Web/Public/AgreementHistory/939.

Dated: July 16, 2018.
Rachel E. Dickon,
Secretary.

[FR Doc. 2018-15421 Filed 7-18-18; 8:45 am]

BILLING CODE 6731-AA-P